DEPARTMENT OF THE INTERIOR

Fish and Wildlife Service

Draft Revised Recovery Plan for the Laysan Duck (Anas laysensis)

AGENCY: Fish and Wildlife Service, Interior.

ACTION: Notice of document availability for review and comment.

SUMMARY: The U.S. Fish and Wildlife Service (we) announces the availability of the Draft Revised Recovery Plan for the Laysan Duck (Anas laysanensis) for public review and comment.

DATES: Comments on the draft revised recovery plan must be received on or before January 3, 2005.

ADDRESSES: Copies of the draft revised recovery plan are available for inspection, by appointment, during normal business hours at the following location: U.S. Fish and Wildlife Service, Pacific Islands Fish and Wildlife Office, 300 Ala Moana Boulevard, Room 3-122, Honolulu, Hawaii 96850 (telephone: (808) 792-9400). Requests for copies of the draft revised recovery plan and written comments and materials regarding this plan should be addressed to the Field Supervisor, Ecological Services, at the above Honolulu address. An electronic copy of the draft revised recovery plan is also available at http://endangered.fws.gov/recovery/index.html#plans.

FOR FURTHER INFORMATION CONTACT: Holly Freifeld, Fish and Wildlife Biologist, at the above Honolulu address.

SUPPLEMENTARY INFORMATION:

Background

Recovery of endangered or threatened animals and plants is a primary goal of the Endangered Species Act (Act) (16 U.S.C. 1531 et seq.) and our endangered species program. Recovery means improvement of the status of listed species to the point at which listing is no longer required under the criteria set out in section 4(a)(1) of the Act. Recovery plans describe actions considered necessary for the conservation of the species, establish criteria for downlisting or delisting listed species, and estimate time and cost for implementing the measures needed for recovery.

The Act requires the development of recovery plans for endangered or threatened species unless such a plan would not promote the conservation of the species. Section 4(f) of the Act requires that public notice, and an opportunity for public review and comment, be provided during recovery plan development. We will consider all information presented during the public comment period on each new or revised recovery plan. Substantive technical comments may result in changes to a recovery plan. Substantive comments regarding recovery plan implementation may not necessarily result in changes to the recovery plans, but will be forwarded to appropriate Federal agency or other entities so that they can take these comments into account during the course of implementing recovery actions. Individual responses to comments will not be provided.

The Laysan duck is federally listed as endangered and is also listed as endangered by the State of Hawaii. This species currently is found only on the small island of Laysan in the Northwestern Hawaiian Islands, but it was also known historically from the island of Lisianski, and bones or fossils have been found in the Main Hawaiian Islands on Hawaii, Maui, Molokai, Oahu, and Kauai, indicating it previously had a much wider distribution. The Main Hawaiian Island populations of this species likely were extirpated by nonnative mammalian predators around the time of human settlement. The Laysan duck's current population is estimated to be 459 birds, but its numbers on Laysan have fluctuated from 7 to 688 adult birds during the past century. This species uses all available habitats on Laysan, including coastal areas, a hypersaline lagoon, mudflats, and densely vegetated upland areas. It eats a variety of arthropods, sometimes seeds, leaves, and algae, and at certain seasons consumes large quantities of aquatic midge larvae. The primary threats to this species are its small population size and restricted range, stochastic fluctuations in food availability that cause its numbers to vary, potential inbreeding depression and disease susceptibility, and storms that could cause direct mortality and destroy the duck's habitat on the single low-lying island to which it is currently restricted.

The recovery goals are to conserve and recover the Laysan duck to the point where it can be downlisted (reclassified from endangered to threatened status) and eventually to delist the species (remove it from the List of Endangered and Threatened Wildlife and Plants). The objectives by which these goals will be met are to protect the existing population on Laysan and reestablish additional viable populations of the duck in areas that are managed to be free of predators. To accomplish these objectives, this recovery plan outlines high priority tasks that fall generally into four categories. First, the duck population on Laysan must be monitored and its habitat restored and protected. Second, wild juvenile ducks must be translocated to appropriate predator-free Northwestern Hawaiian Islands and eventually to sites in the Main Hawaiian Islands where predators are effectively controlled. Translocated populations must be closely monitored and managed to enhance population growth. Third, a captive propagation program must be initiated, with the aim of producing Laysan ducks for release primarily at predator-controlled Main Hawaiian Island sites. Fourth, further research must be undertaken on the life history, demography, disease susceptibility, and genetics of the Laysan duck to refine the recovery criteria and management techniques for this species.

Public Comments Solicited

We solicit written comments on the draft revised recovery plan described. All comments received by the date specified above will be considered prior to approval of this plan.

Authority: The authority for this action is section 4(f) of the Endangered Species Act, 16 U.S.C. 1533(f).

Dated: August 12, 2004.
David J. Wesley,
Acting Regional Director, Region 1, U.S. Fish and Wildlife Service.

[FR Doc. 04-24619 Filed 11-3-04; 8:45 am]

BILLING CODE 4310-55-P